DEPARTMENT OF COMMERCE

National Oceanic and Atmospheric Administration

[RTID 0648-XA201]

Western Pacific Fishery Management Council; Public Meetings

AGENCY: National Marine Fisheries Service (NMFS), National Oceanic and Atmospheric Administration (NOAA), Commerce.

ACTION: Notice of public meetings.

SUMMARY: The Western Pacific Fishery Management Council (Council) will hold the 136th meeting of its Scientific and Statistical Committee (SSC) to discuss fishery management issues and make recommendations for future management of fisheries in the Western Pacific Region.

DATES: The meeting will be held between June 9 and 11, 2020. For specific times and agendas, see SUPPLEMENTARY INFORMATION.

ADDRESSES: The meeting will be held by web conference via WebEx. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The 136th SSC meeting will be held between 11 a.m. and 5 p.m. (Hawaii Standard Time) on June 9 to 11, 2020.

An opportunity to submit public comment will be provided throughout the agendas. The order in which agenda items are addressed may change and will be announced in advance at the meeting. The meeting will run as late as necessary to complete scheduled business.

Background documents for the 136th SSC meeting will be available at www.wpcouncil.org. Instructions for providing oral public comments during the meeting will be posted on the Council website. This meeting will be recorded for the purposes of generating the meeting report.

Agenda for 136th Scientific and Statistical Committee Meeting

Tuesday, June 9, 2020, 11 a.m. to 5 p.m.

1. Introductions

2. Approval of Draft Agenda and Assignment of Rapporteurs

3. Status of the 135th SSC Meeting Recommendations

4. Report from Pacific Islands Fisheries Science Center Director

5. Program Planning and Research

A. Review of the Standardized Bycatch Reporting Methodology

B. Implementation of the Small-Boat Electronic Reporting App

C. 2019 Annual Stock Assessment Fishery Evaluation Report and Recommendations

1. Archipelagic Report Overview and Highlights

2. Pelagic Report Overview and Highlights

D. President Executive Order to Increase America's Competitiveness in the Seafood Industry and Protect our Supply Chain

E. Stock Definitions in the Bottomfish and Pelagic Fisheries

F. Public Comment

G. SSC Discussion and Recommendations

6. Island Fisheries

A. Main Hawaiian Island (MHI) Aprion virescens (uku) Fishery

1. Report on the Western Pacific Stock Assessment Review of the MHI Uku Fishery

2. Peer-Reviewed Benchmark Assessment of Uku Fishery in the MHI

B. American Samoa Bottomfish Fishery

1. Status of the Interim Measure

2. Status of the Annual Catch Limit Specification

3. Development of the American Samoa Bottomfish Rebuilding Plan

C. Public Comment

D. SSC Discussion and Recommendations

Wednesday, June 10, 2020, 11 a.m.-5 p.m.

7. Protected Species

A. Assessing Population Level Impacts of Marine Turtle Interactions in the American Samoa Longline Fishery

B. Summary of Available Information on Sea Turtle Interactions in Foreign Pelagic Fisheries

C. Endangered Species Act (ESA) Consultations

1. Status of Ongoing Consultations

2. Considerations for Developing Reasonable and Prudent Measures and/or Reasonable and Prudent Alternatives

a. Overview

b. Report of the SSC Working Group

D. ESA and Marine Mammal Protection Act Updates

E. Public Comment

F. SSC Discussion and Recommendations

8. Pelagic Fisheries

A. Report on Impacts to Pelagic Fisheries from COVID-19

B. Council Pelagic Research Initiatives

C. Status Determination of Oceanic Whitetip Shark and Western and Central North Pacific Ocean Striped Marlin

D. Satellite Tagging of Striped Marlin in the Hawaii Longline Fishery

Thursday, June 11, 2020, 11 a.m.-5 p.m.

E. Southwest Fisheries Science Center Pelagic Fisheries Research of Interest

F. International Fisheries

1. Western Central Pacific Fisheries Commission

a. Pre-Assessment Workshop for Bigeye and Yellowfin Tunas

b. Council Tropical Tunas Concept Paper

c. Permanent Advisory Committee

2. International Workshop on Area-Based Management of Blue Water Fisheries

G. Public Comment

H. SSC Discussion and Recommendations

9. Other Business

A. September 2020 SSC Meetings Dates

10. Summary of SSC Recommendations to the Council

Special Accommodations

These meetings are accessible to people with disabilities. Requests for sign language interpretation or other auxiliary aids should be directed to Kitty M. Simonds, (808) 522-8220 (voice) or (808) 522-8226 (fax), at least 5 days prior to the meeting date.

(Authority: 16 U.S.C. 1801 et seq.)

Dated: May 20, 2020.
Tracey L. Thompson,
Acting Deputy Director, Office of Sustainable Fisheries, National Marine Fisheries Service.

[FR Doc. 2020-11254 Filed 5-22-20; 8:45 am]

BILLING CODE 3510-22-P